NATIONAL AERONAUTICS AND SPACE ADMINISTRATION

[Notice 02-025]

Notice of Prospective Patent License

AGENCY: National Aeronautics and Space Administration.

ACTION: Notice of prospective patent license.

SUMMARY: NASA hereby gives notice that Critical Care Innovations, Inc. having offices in Chantilly, Virginia, has applied for a partially exclusive license to practice the inventions described and claimed in U.S. Patent No. 5,827,531, entitled “Multi-Lamellar, Immiscible-Phase Microencapsulation of Drugs”; U.S. Patent No. 6,099,864, entitled “INSITU Activation of Microcapsules”; U.S. Patent No. 6,214,300, entitled “Microencapsulation and Electrostatic Processing Device (MEPS)”; U.S. Patent No. 6,103,271, entitled “Microencapsulation & Electrostatic Coating Process”; pending U.S. Patent Application entitled “Protein Crystal Encapsulation Process”, NASA Case No. MSC-22936-1-SB; pending U.S. Patent Application entitled “Externally Triggered Microcapsules”, NASA Case No. MSC-22939-1-SB and pending continuations, divisional applications, and foreign applications corresponding to the above-listed cases. Each of the above-listed patents and patent applications are assigned to the United States of America as represented by the Administrator of the National Aeronautics and Space Administration. Written objections to the prospective grant of a license should be sent the Johnson Space Center.

DATES: Responses to this notice must be received by March 4, 2002.

FOR FURTHER INFORMATION CONTACT: James Cate, Patent Attorney, NASA Johnson Space Center, Mail Stop HA, Houston, TX 77058-8452; telephone (281) 483-1001.

Dated: February 8, 2002.
Robert M. Stephens,
Deputy General Counsel.

[FR Doc. 02-3686 Filed 2-14-02; 8:45 am]

BILLING CODE 7510-01-P